ENVIRONMENTAL PROTECTION AGENCY

[FRL-7173-5]

Notice of Proposed Prospective Purchaser Agreement Pursuant to the Comprehensive Environmental Response, Compensation and Liability Act of 1980, as Amended by the Superfund Amendments and Reauthorization Act, Leeds Silver Reclamation Superfund Site

AGENCY: Environmental Protection Agency (EPA).

ACTION: Notice; request for public comment.

SUMMARY: Notification is hereby given that a Proposed Prospective Purchaser Agreement (PPA) associated with the Leeds Silver Reclamation Superfund Site located in Leeds, Utah was executed by the United States Department of Justice on March 5, 2002. This Agreement is subject to final approval after the comment period. The Prospective Purchaser Agreement would resolve certain potential EPA claims under sections 106 and 107 of the Comprehensive Environmental Response, Compensation and Liability Act of 1980, as amended by the Superfund Amendments and Reauthorization Act of 1986 (CERCLA), against Great Western Star, L.L.C. and Stacey L. Eaton, the prospective purchasers (the purchasers).

The settlement would require the purchasers to pay the U.S. Environmental Protection Agency $60,000. The purchasers intend to use the property as part of a plan to create a residential subdivision in the Silver Reef area, which is in close proximity to Leeds. The purchasers will use the Site property as open space within the development.

The purchasers have agreed to provide EPA with an irrevocable right of access to the Site, to conduct all business in compliance with all applicable local, State, and federal laws and regulations, and to exercise due care at the Site. The purchasers will record a certified copy of the PPA with the local Recorder's Office, and thereafter, each deed, title, or other instrument conveying an interest in the property shall contain a notice to successors-in-title not to disturb the implemented Site response.

For thirty (30) days following the date of publication of this document, the Agency will receive written comments relating to the proposed settlement. The Agency's response to any comments received will be available for public inspection at the Superfund Records Center at the U.S. Environmental Protection Agency, Region VIII, 999 18th Street, Denver, Colorado, 80202.

Availability: The proposed settlement is available for public inspection at the U.S. Environmental Protection Agency, Region VIII, 999 18th Street, Denver, Colorado, 80202. A copy of the proposed Agreement may be obtained from Mia Wood, Enforcement Attorney, U.S. Environmental Protection Agency, Region VIII, 999 18th Street, Denver, Colorado, 80202. Comments should reference the “Leeds Silver Reclamation Superfund Site Prospective Purchaser Agreement” and should be forwarded to Maureen O'Reilly, Enforcement Specialist, at the U.S. Environmental Protection Agency, Region VIII, 999 18th Street, Denver, Colorado, 80202.

FOR FURTHER INFORMATION CONTACT: Mia Wood, Enforcement Attorney, U.S. Environmental Protection Agency, Region VIII, 999 18th Street, Denver, Colorado, 80202.

It is so Agreed:
Jack W. McGraw,
Acting Regional Administrator, U.S. Environmental Protection Agency, Region VIII.

[FR Doc. 02-9915 Filed 4-22-02; 8:45 am]

BILLING CODE 6560-50-M